DEPARTMENT OF JUSTICE

Office of Justice Programs

[OMB Number 1121-NEW]

Agency Information Collection Activities: Proposed Collection; Comments Requested: Teen Dating Relationships: Opportunities for Youth To Define What's Healthy and Unhealthy

ACTION: 30-Day notice of information collection under review.

The Department of Justice (DOJ), National Institute of Justice (NIJ) and Office of Justice Programs (OJP) will be submitting the following information collection request to the Office of Management and Budget (OMB) for review and approval in accordance with the Paperwork Reduction Act of 1995. The proposed information collection is published to obtain comments from the public and affected agencies. This proposed information collection was previously published in the Federal Register Volume 76, Number 50, page 14072 on March 15, 2011 allowing for a 60-day comment period.

The purpose of this notice is to allow for an additional 30 days for public comment until June 22, 2011. This process is conducted in accordance with 5 CFR 1320.10.

Written comments and/or suggestions regarding the items contained in this notice, especially the estimated public burden and associated response time, should be directed to Carrie Mulford, National Institute of Justice, 810 7th Street NW., Washington, DC 20531.

Written comments concerning this information collection should be sent to the Office of Information and Regulatory Affairs, Office of Management and Budget, Attn: DOJ Desk Officer. The best way to ensure your comments are received is to email them to oira_submission@omb.eop.gov or fax them to 202-395-7285. All comments should reference the 8 digit OMB number for the collection or the title of the collection. If you have questions concerning the collection, please call Carrie Mulford 202-307-2959 or the DOJ Desk Officer at 202-395-3176.

Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Teen Dating Relationships: Opportunities for Youth to Define what's Healthy and Unhealthy.

(3) Agency form number, if any, and the applicable component of the Department of Justice sponsoring the collection: Form Number: ATF F 3312.1 and ATF F 3312.2. National Institute of Justice, Office of Justice Programs.

(4) Affected public who will be asked or required to respond, as well as a brief abstract: Primary: Youth, ages 11-22 and adult practitioners, advocates and researchers in professions related to youth and youth relationships. A recent review of the teen dating violence research indicated that youth are rarely involved in research designed to better understand this issue. The purpose of this data collection is to better understand how youth conceptualize healthy and unhealthy dating relationships by intentionally involving youth in the research process. In the first phase of the study, concept mapping will be used to create a visual representation of the ways youth and adults perceive teen dating relationships. Concept mapping is a well-documented method of applied research that makes explicit, implicit theoretical models that can be used for planning and action. The process requires respondents to brainstorm a set of statements relevant to the topic of interest (“brainstorming” task), individually sort these statements into piles based on perceived similarity (“sorting” task), rate each statement on one or more scales (“rating” task), and interpret the graphical representation that result from several multivariate analyses. The collection of data for all concept mapping activities will be facilitated via a dedicated project website. The second phase of the study includes a series of eight face-to-face facilitated discussions with relevant stakeholder groups, practitioners, researchers and youth. Guiding questions and discussion prompts, derived from the concept mapping results, will be used to gather information from the respondents on the meaning and potential use of the concept mapping results. This input will be aggregated and linked to the emerging conceptual framework that will result in a better understanding of adolescent relationship features, including the range of healthy, unhealthy, and abusive characteristics, from the standpoint of youth, and determine how prevention and intervention efforts can effectively target relationship characteristics related to abusive behavior.

(5) An estimate of the total number of respondents and the amount of time estimated for an average respondent to respond: It is estimated that 400 respondents total will participate in the concept mapping phase of this collection, and that 80 respondents total will participate in the facilitated discussions. The table below shows the estimated number of respondents for each portion of the collection:

Concept Mapping Participation Targets
Task | Preteens (11-13) | Teens (14-18) | Young Adults (19-22) | Adults | Total task target
Brainstorming | 50 | 100 | 100 | 150 | 400
Sorting | 0 | 25 | 25 | 50 | 100
Rating | 0 | 125 | 125 | 150 | 400
Total group target |  |  |  |  | 400
Facilitated Discussion Participation Targets
Suggested location | Preteens (11-13) | Teens (14-18) | Young Adults (19-22) | Adults | Total regional target
Washington, DC | 0 | 10 | 10 | 20 | 40
Atlanta | 0 | 10 | 10 | 20 | 40
Chicago or Kansas City | 0 | 10 | 10 | 20 | 40
San Francisco | 0 | 10 | 10 | 20 | 40
Total group target | 0 | 40 | 40 | 80 | 160

The brainstorming task will take respondents 5-10 minutes to complete. The sorting task will take respondents approximately 30-60 minutes to complete. The rating task will take respondents approximately 30-60 minutes to complete. None of these tasks will require participants to complete in one sitting; rather, participants can return to work on task completion as often as they chose, until the task deadline. Respondents will have approximately 4 weeks to brainstorm and approximately 6 weeks to sort and rate. Facilitated discussions will require approximately 4-5 hours of respondents' time, including travel.

(6) An estimate of the total public burden (in hours) associated with the collection: There are an estimated 1417 annual total public burden hours associated with this collection.

Task | Estimated time (minutes) | Total participants | Total minutes per task
Brainstorming | 10 | 400 | 4,000
Sorting | 90 | 100 | 9,000
Rating | 60 | 400 | 24,000
Facilitated Discussions | 300 | 160 | 48,000
Total |  |  | 85,000 (=1417 hours)

If additional information is required contact: Lynn Murray, Department Clearance Officer, United States Department of Justice, Justice Management Division, Policy and Planning Staff, 145 N Street, NE., Room 2E-808, Washington, DC 20530.

Dated: May 17, 2011.
Lynn Murray,
Department Clearance Officer, PRA, U.S. Department of Justice.

[FR Doc. 2011-12534 Filed 5-20-11; 8:45 am]

BILLING CODE 4410-18-P